DEPARTMENT OF COMMERCE

International Trade Administration

[A-570-924]

Polyethylene Terephthalate (PET) Film From the People's Republic of China: Rescission of Antidumping Duty Administrative Review; 2018-2019

AGENCY: Enforcement and Compliance, International Trade Administration, Department of Commerce.

SUMMARY: The Department of Commerce (Commerce) is rescinding the administrative review of the antidumping duty (AD) order on polyethylene terephthalate (PET) film from the People's Republic of China (China) for the period of review (POR) November 1, 2018 through October 31, 2019, based on the timely withdrawal of the request for review.

DATES: Applicable September 11, 2020.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On November 1, 2019, Commerce published in the Federal Register a notice of opportunity to request an administrative review of the Order for the POR.¹ In accordance with section 751(a)(1) of the Tariff Act of 1930, as amended (the Act), and 19 CFR 351.213(b), on November 27, 2019, Mitsubishi Polyester Film, Inc. and SKC, Inc. (collectively, petitioners) timely requested a review of the Order with respect to four companies.² On January 17, 2020, in accordance with section 751(a) of the Act and 19 CFR 351.221(c)(1)(i), Commerce initiated an administrative review of the Order with respect to the four companies named by the petitioners.³ On February 10, 2020, the petitioners timely withdrew their November 27, 2019 review request for all four companies.⁴

¹ See Antidumping or Countervailing Duty Order, Finding, or Suspended Investigation; Opportunity to Request Administrative Review, 84 FR 58690 (November 1, 2019); and Polyethylene Terephthalate Film, Sheet, and Strip from Brazil, the People's Republic of China and the United Arab Emirates: Antidumping Duty Orders and Amended Final Determination of Sales at Less Than Fair Value for the United Arab Emirates, 73 FR 66595 (November 10, 2008) (Order).

² See Petitioners' Letter, “Polyethylene Terephthalate Film, Sheet, and Strip from the People's Republic of China: Request for Antidumping Duty Administrative Review,” dated November 27, 2019.

³ See Initiation of Antidumping and Countervailing Duty Administrative Reviews, 85 FR 3014 (January 17, 2020).

⁴ See Petitioners' Letter “Polyethylene Terephthalate Film, Sheet, and Strip from the People's Republic of China: Withdrawal of Request for Antidumping Duty Administrative Review,” dated February 10, 2020.

Rescission of Review

Pursuant to 19 CFR 351.213(d)(1), Commerce will rescind an administrative review, in whole or in part, if the party that requested the review withdraws its request within 90 days of the publication date of the notice of initiation of the requested review. The petitioners withdrew their requests for review within the 90-day deadline. Because Commerce received no other requests for review, we are rescinding the administrative review of the Order on PET film from China covering the November 1, 2018 through October 31, 2019 POR, in full, in accordance with 19 CFR 351.213(d)(1).

Assessment

Commerce will instruct U.S. Customs and Border Protection (CBP) to assess AD duties on all appropriate entries of PET film from China during the period November 1, 2018, through October 31, 2019, at rates equal to the cash deposit rate for estimated AD duties required at the time of entry, or withdrawal from warehouse, for consumption, in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of AD duties prior to liquidation of the relevant entries during this review period. Failure to comply with this requirement could result in the presumption that reimbursement of AD duties occurred and the subsequent assessment of doubled AD duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: August 3, 2020.
James Maeder,
Deputy Assistant Secretary for Antidumping and Countervailing Duty Operations.

[FR Doc. 2020-20075 Filed 9-10-20; 8:45 am]

BILLING CODE 3510-DS-P